FEDERAL COMMUNICATIONS COMMISSION

47 CFR Part 73

[DA No. 00-922, MM Docket No. 00-70, RM-9843]

Radio Broadcasting Services; Key West, FL

AGENCY: Federal Communications Commission.

ACTION: Proposed rule.

SUMMARY: This document requests comments on a petition for rule making filed on behalf of Adolphus Warfield, Inc. requesting the allotment of Channel 244A at Key West, Florida, as the community's seventh commercial FM broadcast service. Channel 244A can be allotted to Key West without a site restriction at coordinates 24-33-06 and 81-47-48.

DATES: Comments must be filed on or before June 16, 2000, and reply comments on or before July 3, 2000.

ADDRESSES: Federal Communications Commission, Washington, D.C. 20554. In addition to filing comments with the FCC, interested parties should serve the petitioner's counsel, as follows: Joseph A. Belisle, Leibowitz & Associates, P. A., One Southeast Third Avenue, Suite 1450, Miami, Florida 33131.

FOR FURTHER INFORMATION CONTACT: Kathleen Scheuerle, Mass Media Bureau, (202) 418-2180.

SUPPLEMENTARY INFORMATION: This is a summary of the Commission's Notice of Proposed Rule Making, MM Docket No. 00-70, adopted April 19, 2000, and released April 25, 2000. The full text of this Commission decision is available for inspection and copying during normal business hours in the Commission's Reference Center, Washington, DC. The complete text of this decision may also be purchased from the Commission's copy contractors, International Transcription Services, Inc., 1231 20th Street, NW., Washington, DC. 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-11655 Filed 5-9-00; 8:45 am]

BILLING CODE 6712-01-P